Title 3—

The President

Proclamation 7410 of February 28, 2001

Fortieth Anniversary of the Peace Corps

By the President of the United States of America

A Proclamation

The generous spirit of the American people has given this country a great and long-standing tradition of voluntary service. During the past four decades, the members of the Peace Corps have carried on that tradition with dramatic and far-reaching effect.

Established in 1961, the Peace Corps has brought a wealth of practical assistance to individuals and communities through out the world. Since its inception, more than 161,000 Americans have served as Peace Corps volunteers in 134 countries. Peace Corps volunteers have not only helped to fill immediate and dire human needs, but also have helped promote sustainable, long-term development in agriculture, business, education, urban development, health care, and the environment.

In many countries of the world, there exists an intense hunger for peace, hope, and opportunity—for genuine social and economic development that is rooted in respect for human rights and a belief in human potential. Recognizing the dignity and worth of all peoples and determined to help individuals help themselves, Peace Corps volunteers have served as our Nation's emissaries of hope and goodwill. Accordingly, their generous efforts have helped to foster mutual understanding and respect between the people of the United States and citizens of other countries.

Respected for its work around the world, the Peace Corps also conducts a number of valuable programs here at home. For example, through programs such as the Paul Coverdell World Wise Schools and Peace Corps Fellows/USA, Peace Corps volunteers are helping children in every State of our Nation to learn more about the world in which we live.

I am pleased to note that the current volunteer corps is the most ethnically diverse in Peace Corps history and that more and more Americans are joining in the work of the Peace Corps through its growing partnerships with the public and private sectors. These trends are a tribute to the many past achievements of the Peace Corps, and they are a promising sign of more to come.

NOW, THEREFORE, I, GEORGE W. BUSH, President of the United States of America, by virtue of the authority vested in me by the Constitution and laws of the United States, do hereby urge all Americans to observe March 1, 2001—the 40th anniversary of the Peace Corps—with appropriate programs, ceremonies, and activities designed to honor Peace Corps volunteers, past and present, for their many contributions to our country and to the universal cause of peace and human progress.

IN WITNESS WHEREOF, I have hereunto set my hand this twenty-eighth day of February, in the year of our Lord two thousand one, and of the Independence of the United States of America the two hundred and twenty-fifth.

B

[FR Doc. 01-5669

Filed 3-5-01; 11:47 am]

Billing code 3195-01-P